INTERNATIONAL TRADE COMMISSION

[Investigation Nos. 701-TA-687 and 731-TA-1614 (Final)]

Brass Rod From Israel

Determinations

On the basis of the record ¹ developed in the subject investigations, the United States International Trade Commission (“Commission”) determines, pursuant to the Tariff Act of 1930 (“the Act”), that an industry in the United States is materially injured by reason of imports of brass rod from Israel, provided for in subheadings 7407.21.15, 7407.21.30, 7407.21.70, and 7407.21.90 of the Harmonized Tariff Schedule of the United States, that have been found by the U.S. Department of Commerce (“Commerce”) to be sold in the United States at less than fair value (“LTFV”) and subsidized by the government of Israel.2 3

¹ The record is defined in § 207.2(f) of the Commission's Rules of Practice and Procedure (19 CFR 207.2(f)).

² 89 FR 63402 and 89 FR 63410, August 5, 2024.

³ Commissioner David S. Johanson dissenting.

Background

The Commission instituted these investigations effective April 27, 2023, following receipt of petitions filed with the Commission and Commerce by American Brass Rod Fair Trade Coalition, Washington, District of Columbia; Mueller Brass Co., Port Huron, Michigan; and Wieland Chase LLC, Montpelier, Ohio. The Commission scheduled the final phase of the investigations following notification of a preliminary determination by Commerce that imports of brass rod from India were subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of October 5, 2023 (88 FR 6922). The Commission conducted its hearing on December 12, 2023. All persons who requested the opportunity were permitted to participate.

The investigation schedules became staggered when Commerce did not align its countervailing duty investigation regarding India with its antidumping duty investigation regarding India, and reached an earlier final countervailing duty determination. On February 1, 2024, the Commission issued a final affirmative determination in its countervailing duty investigation of brass rod from India (89 FR 8440, February 7, 2024). On June 5, 2024, the Commission issued final affirmative determinations in its countervailing duty investigation of brass rod from South Korea and its antidumping duty investigations of brass rod from Brazil, India, Mexico, South Africa, and South Korea (89 FR 49193, June 11, 2024). The investigation schedules became further staggered when Commerce aligned its countervailing duty investigation regarding Israel with its antidumping duty investigation regarding Israel and tolled all deadlines for its antidumping duty investigation regarding Israel by 90 days.

Following notification of final determinations by Commerce that imports of brass rod from Israel were being sold at LTFV within the meaning of section 735(a) of the Act (19 U.S.C. 1673d(a)) and were being subsidized by the government of Israel within the meaning of section 705(a) of the Act (19 U.S.C. 1671d(a)), notice of the supplemental scheduling of the final phase of the Commission's antidumping duty and countervailing duty investigations regarding brass rod from Israel was given by posting copies of the notice in the Office of the Secretary, U.S. International Trade Commission, Washington, DC, and by publishing the notice in the Federal Register of August 16, 2024 (89 FR 66738).

The Commission made these determinations pursuant to § 705(b) and § 735(b) of the Act (19 U.S.C. 1671d(b) and 19 U.S.C. 1673d(b)). It completed and filed its determinations in these investigations on September 19, 2024. The views of the Commission are contained in USITC Publication 5545 (September 2024), entitled Brass Rod from Israel: Investigation Nos. 701-TA-687 and 731-TA-1614 (Final).

By order of the Commission.
Issued: September 19, 2024.
Lisa Barton,
Secretary to the Commission.

[FR Doc. 2024-21891 Filed 9-24-24; 8:45 am]

BILLING CODE 7020-02-P